DEPARTMENT OF ENERGY

Federal Energy Regulatory Commission

Notice of Settlement Agreement and Soliciting Comments

November 3, 2006.

Take notice that the following settlement agreement has been filed with the Commission and is available for public inspection.

a. Type of Application: Settlement Agreement.

b. Project No.: P-2630-004.

c. Date filed: October 26, 2006.

d. Applicant: PacifiCorp Energy (PacifiCorp).

e. Name of Project: Prospect Nos. 1, 2, and 4 Hydroelectric Project (Prospect Project).

f. Location: On the Rogue River and certain tributaries, near the Town of Prospect, Jackson County, Oregon.

g. Filed Pursuant to: Rule 602 of the Commission's Rules of Practice and Procedure, 18 CFR 385.602.

h. Applicant Contact: Dave Leonhardt, Project Manager; PacifiCorp; 825 NE. Multnomah, Suite 1500; Portland, Oregon 97232; tel. (503) 813-6658.

i. FERC Contact: Nick Jayjack; tel. (202) 502-6073; e-mail nicholas.jayjack@ferc.gov.

j. Deadline for filing comments: 30 days from the date of this notice. Reply comments due 45 days from the date of this notice.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments may be filed electronically via the Internet in lieu of paper. The Commission strongly encourages electronic filings. See 18 CFR 385.2001(a)(1)(iii) and the instructions on the Commission's Web site (http://www.ferc.gov) under the “e-Filing” link.

k. The Settlement Agreement, entered into by PacifiCorp and Oregon Department of Fish and Wildlife (Oregon DFW), concerns certain resident trout issues related to the relicense proceeding for the Prospect Project. Specifically, PacifiCorp and Oregon DFW have agreed that PacifiCorp: (1) Would implement certain ramping rates (i.e., project-induced increases and decreases in river discharge and related changes in river surface elevation over time) downstream of the project's diversion dams and Prospect No. 2 powerhouse; (2) would conduct certain large woody debris management practices at the project diversion dams; and (3) would not be required to augment gravel downstream of the project diversion dams.

l. A copy of the settlement agreement is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

Magalie R. Salas,
Secretary.

[FR Doc. E6-18990 Filed 11-8-06; 8:45 am]

BILLING CODE 6717-01-P